DEPARTMENT OF DEFENSE

Office of the Secretary

[DOD-2006-OS-0177]

Manual for Courts-Martial; Proposed Amendments

AGENCY: Joint Service Committee on Military Justice (JSC), Department of Defense.

ACTION: Notice of proposed amendments to the Manual for Courts-Martial, United States (2005 ed.) and notice of public meeting (modification).

SUMMARY: The Department of Defense published proposed changes to the Manual for Courts-Martial (2005 ed.) on August 10, 2006, in the Federal Register (Volume 71, Number 154)] [Notices] [Page 45780-45797]. This announcement modifies that former publication to include information concerning submitting comments, and extends the time period for submission.

DATES: Comments on the proposed changes must be received no later than October 13, 2006, to be assured consideration by the JSC. A public meeting concerning these proposed changes will be held on September 18, 2006 at 11 a.m. in the 14th Floor Conference Room, 1777 N. Kent St., Rosslyn, VA 22209-2194.

ADDRESSES: You may submit comments, identified by docket number and or RIN number and title, by any of the following methods:

Federal eRulemaking Portal: http://www.regulations.gov. Follow the instructions for submitting comments.

Mail: Federal Docket Management System Office, 1160 Defense Pentagon, Washington, DC 20301-1160.

Instructions: All submissions received must include the agency name and docket number or Regulatory Information Number (RIN) for this Federal Register document. The general policy for comments and other submissions from members of the public is to make these submissions available for public viewing on the Internet at http://regulations.gov as they are received without change, including any personal identifiers or contact information.

SUPPLEMENTARY INFORMATION: The original publication indicated that portions of the draft changes contained information that was in bold lettering or underlined. This formatting was not contained in the version published. The version published without such highlighting is consistent with the final version of the Executive Order. Those desiring a version of the draft changes with bold and underline portions highlighting the change should request this from the designated point of contact, below.

FOR FURTHER INFORMATION CONTACT: Lieutenant Colonel L. Peter Yob, Executive Secretary, Joint Service Committee on Military Justice, Office of the Judge Advocate General, Criminal Law Division, 1777 N. Kent St., Rosslyn, VA 22209-2194, (703) 588-6744, e-mail Lousi.Yob@hqda.army.mil.

Dated: September 1, 2006.
L.M. Bynum,
OSD Federal Register Liaison Officer, DoD.

[FR Doc. 06-7509 Filed 9-7-06; 8:45 am]

BILLING CODE 5001-06-M